DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration.

Title: Application Forms for EDA Investment Assistance.

OMB Control Number: 0610-0094.

Form Number(s): ED-900, ED-900A, ED-900B, ED-900C, ED-900D, ED-900E, ED-900F, ED-900P.

Type of Request: Regular submission; Revision of a currently approved collection.

Number of Respondents: 1672.

Average Hours per Response: 13 hours, 28 minutes.

Burden Hours: 22,512.

Needs and Uses: The Application Forms for EDA Investment Assistance are required to apply for EDA investment assistance under its Public Works, Economic Adjustment, Technical Assistance, Research, and Planning Programs. This collection of information is required to ensure that the application meets the requirements for EDA assistance set out in EDA's regulations at 13 CFR Chapter III.

Affected Public: Not-for-profit institutions; Federal government; State, local, or tribal government.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Lead, Office of the Chief Information Officer.

[FR Doc. 2015-17196 Filed 7-13-15; 8:45 am]

BILLING CODE 3510-34-P